DEPARTMENT OF ENERGY

Federal Energy Regulatory Commission

[Docket No. RP04-98-001]

Columbia Gulf Transmission Company; Notice of Compliance Filing

March 16, 2004.

Take notice that on March 10, 2004, Columbia Gulf Transmission Company (Columbia Gulf) tendered for filing as part of its FERC Gas Tariff, Second Revised Volume No. 1, the following revised tariff sheets:

First Revised Original Sheet No. 235

Original Sheet No. 235A

Fourth Revised Sheet No. 209B

Columbia Gulf states that it is making this filing to comply with the Commission's January 26, 2004, Order (January 26 Order) in the above referenced docket.

Columbia Gulf states that copies of the filing have been mailed to all firm customers, interrptible customers, and affected state commissions.

Any person desiring to protest said filing should file a protest with the Federal Energy Regulatory Commission, 888 First Street, NE., Washington, DC 20426, in accordance with 385.211 of the Commission's rules and regulations. All such protests must be filed in accordance with 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-651 Filed 3-22-04; 8:45 am]

BILLING CODE 6717-01-P